Title 3—

The President

Proclamation 7893 of May 3, 2005

National Observance of the 60th Anniversary of the End of World War II, 2005

By the President of the United States of America

A Proclamation

Sixty years ago, the flags of freedom unfurled across Europe and Asia as victorious American and Allied troops brought World War II to an end. Freedom prevailed when millions were liberated from oppression and tyranny was replaced by democracy.

The years of World War II were a hard, heroic, and gallant time in the life of our country. When it mattered most, a generation of Americans showed the finest qualities of our Nation and of humanity. More than 16 million Americans served during World War II, putting on the uniform of the Soldier, the Sailor, the Airman, the Marine, the Coast Guardsman, or the Merchant Mariner. They were the sons and daughters of a peaceful country, who gave the best years of their lives to the greatest mission our country ever accepted. They earned 464 Medals of Honor, and over 400,000 made the ultimate sacrifice for freedom. Millions more supported the war effort at home—caring for the injured and working in factories to provide supplies to those fighting in distant places like Midway, Normandy, Iwo Jima, and Bastogne.

As the war drew to a close, Americans remained united in support of the vital cause of restoring the liberty of mankind. When the end of the war in Europe was announced on May 8, 1945, hundreds of people rushed to the White House to celebrate the triumph of freedom. President Harry Truman addressed the American people from the White House and said, “For this victory, we join in offering our thanks to the Providence which has guided and sustained us through the dark days of adversity.” In the following months, the war in the Pacific was won and a grateful Nation began welcoming home liberty's heroes. Many who had left America's farms and cities as young men and women returned as seasoned veterans ready to finish their education, start families, and assume leadership roles in their communities.

Today, as we wage the war on terror and work to extend peace and freedom around the world, our service men and women follow in the footsteps of our World War II veterans by upholding the noble tradition of duty, honor, and love of country. Like generations before them, America's Armed Forces are among the world's greatest forces for good, answering today's dangers and challenges with firm resolve. Their vital mission will help secure our Nation in a new century, and all Americans are grateful for their courage, devotion to duty, and sacrifice.

NOW, THEREFORE, I, GEORGE W. BUSH, President of the United States of America, by virtue of the authority vested in me by the Constitution and laws of the United States, do hereby proclaim 2005 as the National Observance of the 60th Anniversary of the End of World War II. I urge all Americans to mark this observance with appropriate programs, ceremonies, and activities in honor of the Americans who served in World War II and all those who supported and contributed their efforts from the home front during this extraordinary time in history.

IN WITNESS WHEREOF, I have hereunto set my hand this third day of May, in the year of our Lord two thousand five, and of the Independence of the United States of America the two hundred and twenty-ninth.

B

[FR Doc. 05-9159

Filed 5-4-05; 9:15 am]

Billing code 3195-01-P